INTERNATIONAL TRADE COMMISSION

[Investigation No. TA-201-73]

Steel

AGENCY: United States International Trade Commission.

ACTION: Institution and scheduling of an investigation under section 202 of the Trade Act of 1974 (19 U.S.C. 2252) (the Act).

SUMMARY: Following receipt of a request from the United States Trade Representative on June 22, 2001, the Commission instituted investigation No. TA-201-73 under section 202 of the Act to determine whether certain steel products,¹ are being imported into the United States in such increased quantities as to be a substantial cause of serious injury, or the threat thereof, to the domestic industry producing an article like or directly competitive with the imported article.

¹ The request letter and the accompanying annexes listing the covered products by HTS categories are on the Commission's website(http://www.usitc.gov).

For further information concerning the conduct of this investigation, hearing procedures, and rules of general application, consult the Commission's Rules of Practice and Procedure, part 201, subparts A through E (19 CFR part 201), and part 206, subparts A and B (19 CFR part 206).

EFFECTIVE DATE: June 22, 2001.

FOR FURTHER INFORMATION CONTACT: Vera Libeau (202-205-3176) for general procedural questions; Mary Messer (202-205-3193) for carbon and alloy flat products; D.J. Na (202-708-4727) for carbon and alloy long products; Christopher Cassise (202-708-5408) for carbon and alloy tubular products and fittings and specialty products, Office of Investigations, U.S. International Trade Commission, 500 E Street SW, Washington, DC 20436. Hearing-impaired persons can obtain information on this matter by contacting the Commission's TDD terminal on 202-205-1810. Persons with mobility impairments who will need special assistance in gaining access to the Commission should contact the Office of the Secretary at 202-205-2000. General information concerning the Commission may also be obtained by accessing its internet server (http://www.usitc.gov). The public record for this investigation may be viewed on the Commission's electronic docket (EDIS-ON-LINE) at http://dockets.usitc.gov/eol/public.

SUPPLEMENTARY INFORMATION:

Participation in the Investigation and Service List

Persons wishing to participate in the investigation as parties must file an entry of appearance with the Secretary to the Commission, as provided in section 201.11 of the Commission's rules, not later than 21 days after publication of this notice in the Federal Register. The Secretary will prepare a service list containing the names and addresses of all persons, or their representatives, who are parties to this investigation upon the expiration of the period for filing entries of appearance.

Limited Disclosure of Confidential Business Information (CBI) Under an Administrative Protective Order (APO) and CBI Service List

Pursuant to section 206.17 of the Commission's rules, the Secretary will make CBI gathered in this investigation available to authorized applicants under the APO issued in the investigation, provided that the application is made not later than 21 days after the publication of this notice in the Federal Register. A separate service list will be maintained by the Secretary for those parties authorized to receive CBI under the APO.

Hearings on Injury and Remedy

The Commission has scheduled a series of separate hearings in connection with the injury and remedy phases of this investigation. The hearings on injury will begin the week of September 17, 2001, at the U.S. International Trade Commission Building and will continue for additional days to be determined. Requests to appear at the hearings should be filed in writing with the Secretary to the Commission on or before August 22, 2001. Requests should identify the products to be addressed and the amount of time requested. The Commission intends to publish a notice no later than September 5, 2001 concerning specific dates for the hearings and the products that will be the subject of each hearing. All persons desiring to appear at the hearings and make oral presentations should attend a prehearing conference to be held at 9:30 a.m. on September 12, 2001 at the U.S. International Trade Commission Building. In the event that the Commission makes an affirmative injury determination or is equally divided on the question of injury in this investigation, hearings on the question of remedy will begin the week of November 5, 2001 and will continue for additional days to be determined. Requests to appear at these hearings should be filed in writing with the Secretary to the Commission on or before October 23, 2001. All persons desiring to appear at the hearings and make oral presentations should attend a prehearing conference to be held at 9:30 a.m. on October 30, 2001 at the U.S. International Trade Commission Building. Oral testimony and written materials to be submitted at the hearings are governed by sections 201.6(b)(2) and 201.13(f) of the Commission's rules. Parties must submit any request to present a portion of their hearing testimony in camera no later than 7 days prior to the dates of the hearings.

Written Submissions

Each party is encouraged to submit a prehearing brief to the Commission. The deadline for filing prehearing briefs on injury is September 10, 2001; that for filing prehearing briefs on remedy, including any commitments pursuant to 19 U.S.C. 2252(a)(6)(B), is October 29, 2001. Parties may also file posthearing briefs. The deadline for filing posthearing briefs on injury will be announced at the hearings; that for filing posthearing briefs on remedy will also be announced at the hearings. In addition, any person who has not entered an appearance as a party to the investigation may submit a written statement of information pertinent to the consideration of injury by a date to be announced at the hearings, and pertinent to the consideration of remedy also by a date to be announced at the hearings. All written submissions must conform with the provisions of section 201.8 of the Commission's rules; any submissions that contain confidential business information must also conform with the requirements of section 201.6 of the Commission's rules. The Commission's rules do not authorize filing of submissions with the Secretary by facsimile or electronic means.

In accordance with section 201.16(c) of the Commission's rules, each document filed by a party to the investigation must be served on all other parties to the investigation (as identified by the service list), and a certificate of service must be timely filed. The Secretary will not accept a document for filing without a certificate of service.

Authority: This investigation is being conducted under the authority of section 202 of the Trade Act of 1974; this notice is published pursuant to section 206.3 of the Commission's rules.

Issued: June 28, 2001.
By order of the Commission.
Donna R. Koehnke,
Secretary.

[FR Doc. 01-16779 Filed 7-2-01; 8:45 am]

BILLING CODE 7020-02-P